DEPARTMENT OF TRANSPORTATION

Coast Guard

33 CFR Part 165

[COTP MIAMI 00-015]

RIN 2115-AA97

Safety Zone: OpSail Miami 2000, Port of Miami

AGENCY: Coast Guard, DOT.

ACTION: Notice of proposed rulemaking

SUMMARY: The Coast Guard proposes to establish temporary regulations in the Port of Miami for OpSail Miami 2000 activities. This action is necessary to provide for the safety of life and property on navigable waters during OpSail Miami 2000. This action will restrict vessel traffic in portions of the Port of Miami.

DATES: Comments and related material must reach the Coast Guard on or before May 1, 2000.

ADDRESSES: You may mail comments and related material to the Port Management and Response Department, Coast Guard Marine Safety Office, P.O. Box 01-6940, Miami, Florida 33101-6940, or deliver them during regular office hours, Monday through Friday, to Room 201, Coast Guard Marine Safety Office Miami, 100 MacArthur Causeway, Miami Beach, Florida 33197. Coast Guard Marine Safety Office Miami maintains the public docket for this rulemaking. Comments and material received from the public, as well as documents indicated in this preamble as being available in the docket, will become part of this docket and will be available for inspection or copying at room 201, Coast Guard Marine Safety Office Miami, between 8 a.m., E.S.T. and 3 p.m., E.S.T. Monday through Friday, except Federal holidays.

FOR FURTHER INFORMATION CONTACT: Lieutenant Joseph Boudrow, Port Management and Response Department, Coast Guard Marine Safety Office Miami, (305) 535-8705.

SUPPLEMENTARY INFORMATION:

Regulatory Information

On December 17, 1999, the Coast Guard published an advanced notice of proposed rulemaking; request for comments (ANPRM) entitled OPSAIL 2000, Port of Miami in the Federal Register (64 FR 70650). The Coast Guard received no letters commenting on the anticipated rulemaking. No public hearing was requested and none was held.

Request for Comments

We encourage interested persons to participate in this rulemaking by submitting comments and related material. Your comments should include your name and address, identify the docket number for this rulemaking (COTP Miami 00-015) and the specific section of this proposal to which each comment applies and give the reason for each comment. Please submit two copies of all comments and attachments in an unbound format, no larger than 8-½ by 11 inches, suitable for copying and electronic filing. If you want to know if your comment is received, enclose a stamped, self-addressed postcard or envelope. We will consider all comments received during the comment period and may change this proposal in view of the comments. The comment period for this regulation is 45 days. This time period is adequate to allow local input because we previously published an ANPRM, no comments were received, the event is highly publicized, and the shortened comment period will allow the full 30-day publication requirement prior to the final rule becoming effective. Copies of this proposal will also be placed in the local notice to mariners.

Public Meeting

The Coast Guard plans no public meeting. You may request a public meeting by writing to the Port Management and Response Department of Coast Guard Marine Safety Office Miami at the address under ADDRESSES. The request should include the reasons why a hearing would be beneficial. If we determine that the opportunity for oral presentations will aid this rulemaking, it will hold a public hearing at a time and place announced by a later notice in the Federal Register.

Background and Purpose

The proposed temporary regulations are for OpSail Miami 2000 events scheduled to be held in portions of the Port of Miami over the period of June 6-10, 2000. This rule is proposed to provide for the safety of life and property on navigable waters during OpSail Miami 2000 events.

Discussion of Proposed Rule

OpSail Miami 2000, Inc., is sponsoring OpSail Miami 2000 activities which consist of the arrival, display, and departure parade of numerous large U. S. and foreign flagged sail vessels. One or more fireworks displays may be conducted during the period of sail vessel visit. Currently, approximately 20 Class A (175 feet or larger in length) and 20 smaller Class B (100 feet up to 175 feet) and C (up to 100 feet) sail vessels have confirmed that they will participate in OpSail Miami 2000. Event sponsors anticipate as many as 100 sail vessels may ultimately be involved.

Participant sail vessels will begin arriving in the Port of Miami on June 6, 2000 and will moor alongside Dodge Island within the Port of Miami. These vessels will be open to the public during certain hours between June 7 and June 9, 2000. On June 10, 2000, these vessels will make their departure from the Port of Miami in a parade commencing approximately 12 noon EST and ending approximately 2 p.m. EST. Participant sail vessels will proceed from their moorings to the turning basin at the west end of the Main Channel. From the turning basin, they will proceed in 300 to 500 yard intervals in an ocean bound direction along the Main Channel, thence along Government Cut, thence along Bar Cut, thence along Outer Bar Cut, to the vicinity of Miami Lighted Bouy M (Light List Number (LLNR) 10455-895), located at 25 degrees, 46.0 minutes North latitude, 080 degrees, 05.0 minutes West longitude. The area of Miami Lighted Buoy M is the termination area for the parade.

Vessels subject to local pilotage rules shall have a Biscayne Bay pilot embarked for the outbound parade from moorings. Pilots are expected to disembark from their assigned sail vessels in the area of Miami Lighted Buoy M. Once out of the parade, the majority of sail vessels are expected to turn north and skirt the south Florida Atlantic Coast en route to their next port of call.

Waterborne spectator areas have been designated by the event sponsor to be on either side of Bar Cut and Outer Cut in the open ocean. These areas will be delineated by lines of marker floats placed by the sponsor. The marker floats will be round balls, orange in color, and spaced approximately 200 yards apart. They will be placed 100 yards out from the aids to navigation that mark each side of the channel. Spectator craft will be expected to remain behind the marker float lines for the duration of the parade.

Because of the number of the sail vessels, fireworks displays, and the large number of spectator watercraft expected during the parade, the Coast Guard proposes temporary regulations for the creation of a temporary safety zone and vessel movement controls in portions of the Port of Miami and its channels affected by this event. The regulations will be in effect at various times in portion of the Port of Miami during the period of June 6, 2000 through June 10, 2000. The vessel congestion due to the large number of participant and spectator vessels poses a significant threat to the safety of life and property. The Coast Guard has determined this proposed rulemaking is necessary to ensure the safety of life and property on the navigable waters of the United States within portions of the Port of Miami affected by this event.

Regulated Area

The Coast Guard proposes to establish a temporary safety zone for the Parade of Sail on June 10, 2000. The proposed safety zone shall include all waters in the Port of Miami within the turning basin at the west end of Main Channel bounded by the bridges connecting Dodge Island and Watson Island to the mainland, respectively, the Main Channel, Lummus Island Cut east of a line drawn northward from the west end of Fisher Island, Government Cut, Bar Cut, and Outer Bar Cut. This safety zone also includes all the waters 500 yards on either side of Bar Cut and Outer Bar Cut seaward of the jetties to Miami Lighted Buoy M (LLNR 10455-895). Entry into the safety zone by non-participating vessels will be prohibited. The Coast Guard expects many spectator craft for this millennium event. These craft will be allowed to view the Parade of Sail vessels from viewing areas on either side of Bar Cut and Outer Bar Cut. These areas will delineated by marker floats placed by the sponsor of the event.

Regulatory Evaluation

This proposed rule is not a “significant regulatory action” under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this proposed rulemaking to be so minimal that a full Regulatory Evaluation under 10e of the regulatory policies and procedures of DOT is unnecessary. Although the proposed rule prohibits all non-parade related traffic in the area of the temporary safety zone on Saturday, June 10, 2000, the effect of this regulation will not be significant for the following reasons: the regulation will be in effect for less than 6 hours; the maritime community will receive extensive advance notices through Local Notices to Mariners, facsimile, and marine information broadcasts, maritime association meetings, and Miami area newspapers; and specific viewing areas will be marked for spectator vessels. Mariners and commercial vessels can adjust their plans accordingly.

Small Entities

Under the Regulatory Flexibility Act (5 U.S.C. 601-612), we considered whether this proposed rule has a significant economic impact on a substantial number of small entities. The term “small entities” comprises small businesses, not-for-profit organizations that are independently owned and operated and are not dominant in their fields, and governmental jurisdictions with populations of less than 50,000.

For the reasons discussed in the Regulatory Evaluation section above, the Coast Guard certifies under 5 U.S.C. 605(b) that this proposed rule would not have a significant economic impact on a substantial number of small entities. This proposed rule would affect the following entities, some of which might be small entities: the owners or operators of vessels intending to transit those portions of the Port of Miami during the six hour periods of safety zone enforcement. These regulations would not have a significant economic impact on a substantial number of small entities for the following reasons. Although these regulations would apply to a substantial portion of the Port of Miami, the periods of the regulatory enforcement will be of short duration. Before the effective periods, the Coast Guard will make notifications to the public via mailings, facsimiles, the Local Notice to Mariners, and use of the sponsor Internet site. In addition, OpSail Miami 2000, Inc., the sponsoring organization, is planning to publish information of the event in local newspapers, pamphlets, and television and radio broadcasts. If you think that your business, organization, or governmental jurisdiction qualifies as a small entity and that this rule would have a significant economic impact on it, please submit comments (see ADDRESSES) explaining why you think it qualifies and how and to what degree this rule would economically affect it.

Assistance for Small Entities

Under section 213(a) of the Small Business Regulatory Enforcement Fairness Act of 1996 (Pub. L. 104-121), we will assist small entities in understanding this proposed rule so that they can better evaluate its effects on them and participate in the rulemaking. If the rule would affect your small business, organization, or governmental jurisdiction and you have questions concerning its provisions or options for compliance, please contact Lieutenant Joe Boudrow, Coast Guard Marine Safety Office Miami at (305) 535-8705.

Collection of Information

The Coast Guard anticipates that this rulemaking will not require any new collection of information under the Paperwork Reduction Act of 1995 (44 U.S.C. 3501-3520).

Federalism

This action has been analyzed in accordance with the principles and criteria contained in Executive Order 13132, and it has been determined that the rulemaking does not have sufficient Federalism implications to warrant the preparation of a Federalism Assessment.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This proposed rule would not impose no unfunded mandate.

Taking of Private Property

This proposed rule would not effect a taking of private property or otherwise have taking implications under E.O. 12630, Governmental Actions and Interference with Constitutionally Protected Property Rights.

Civil Justice Reform

This proposed rule meets applicable standards in sections 3(a) and 3(b)(2) of E.O. 12988, Civil Justice Reform, to minimize litigation, eliminate ambiguity, and reduce burden.

Protection of Children

The Coast Guard has analyzed this proposed rule under E.O. 13045, Protection of Children from Environmental Health Risks and Safety Risks. This rule is not an economically significant rule and does not concern an environmental risk to health or risk to safety that may disproportionately affect children.

Environment

We considered the environmental impact of this action and have initially determined under Figure 2-1, paragraph 34(g) of Commandant Instruction M16475.1C, that this proposed rule will be categorically excluded from further environmental documentation. A Categorical Exclusion Determination will be available in the docket where indicated under ADDRESSES. By controlling vessel traffic during the event, this proposed rule is intended to minimize environmental impacts of increased vessel traffic during the parade of sail.

List of Subjects in 33 CFR Part 165

Harbors, Marine Safety, Navigation (water), Reporting and recordkeeping requirements, Security measures, Waterways.

Proposed Regulations

For the reasons discussed in the preamble, the Coast Guard proposes to amend 33 CFR Part 165, as follows:

PART 165—[AMENDED]

1. The Authority citation for Part 165 continues to read as follows:

Authority: 33 U.S.C. 1231; 50 U.S.C. 191; 33 CFR 1.05-1(g), 6.04-1, 6.04-6, and 160.5; 49 CFR 1.46.

2. A temporary § 165.T 07-015 is added to read as follows:

§ 165.T07-015 Safety Zone; Miami, Florida

(a) Regulated area. A temporary safety zone is established for Opsail Miami 2000 events, including a parade of sail vessels to include all waters in the Port of Miami within the turning basin at the west end of Main Channel bounded by the bridges connecting Dodge and Watson Islands with the mainland, Main Channel, Lummus Island Cut east of a line extending northward from the west end of Fisher Island, Government Cut, Bar Cut, and Outer Bar Cut. This safety zone also includes all the waters 500 yards on either side of Bar Cut and Outer Bar Cut seaward of the jetties to Miami Lighted Buoy M (LLNR 10455-895).

(b) Regulations. In accordance with the general regulations in 165.23 of this part, entry into this zone is prohibited to all non-parade related vessels without the prior permission of the U.S. Coast Guard Captain of the Port.

(c) Enforcement Period. This section becomes effective at 8 a.m., EST and terminates at approximately 4 p.m., EST on June 10, 2000.

Dated: March 3, 2000.
L.J. Bowling,
Captain, U. S. Coast Guard, Captain of the Port, Miami Zone.

[FR Doc. 00-6685 Filed 3-16-00; 8:45 am]

BILLING CODE 4910-15-U